DEPARTMENT OF COMMERCE

Submission for OMB Review; Comment Request

The Department of Commerce will submit to the Office of Management and Budget (OMB) for clearance the following proposal for collection of information under the provisions of the Paperwork Reduction Act (44 U.S.C. chapter 35).

Agency: National Oceanic and Atmospheric Administration (NOAA).

Title: Southeast Region Gear Identification Requirements.

OMB Control Number: 0648-0359.

Form Number(s): NA.

Type of Request: Regular submission (extension of a current information collection).

Number of Respondents: 3,021.

Average Hours per Response: Coral rocks, 10 seconds; traps and pots, 7 minutes; buoy gear and mackerel gillnets, 20 minutes.

Burden Hours: 9,177.

Needs and Uses: This request is for extension of a current information collection.

National Marine Fisheries Service (NMFS) Southeast Region manages the U.S. fisheries of the exclusive economic zone (EEZ) off the South Atlantic, Caribbean, and Gulf of Mexico under the Fishery Management Plans (FMP) for each Region. The Regional Fishery Management Councils prepared the FMPs pursuant to the Magnuson-Stevens Fishery Conservation and Management Act (MSA).

The recordkeeping and reporting requirements at 50 CFR part 622 form the basis for this collection of information. Requirements that fishing gear be marked are essential to facilitate enforcement. The ability to link fishing gear to the vessel owner is crucial to enforcement of regulations issued under the authority of the MSA. The marking of fishing gear is also valuable in actions concerning damage, loss, and civil proceedings. The requirements imposed in the Southeast Region are for coral aquacultured live rock; golden crab traps; mackerel gillnet floats; spiny lobster traps; black sea bass pots; and buoy gear.

Affected Public: Business or other for-profit organizations.

Frequency: Annually.

Respondent's Obligation: Mandatory.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: January 9, 2012.
Gwellnar Banks,
Management Analyst, Office of the Chief Information Officer.

[FR Doc. 2012-427 Filed 1-11-12; 8:45 am]

BILLING CODE 3510-22-P